DEPARTMENT OF THE TREASURY

Office of Foreign Assets Control

Additional Designation of Person Whose Property and Interests in Property Are Blocked Pursuant to Executive Order 13536 of April 12, 2010, “Blocking Property of Certain Persons Contributing to the Conflict in Somalia.”

AGENCY: Office of Foreign Assets Control, Treasury.

ACTION: Notice.

SUMMARY: The Treasury Department's Office of Foreign Assets Control (“OFAC”) is publishing the name of one individual whose property and interests in property are blocked pursuant to Executive Order 13536 of April 12, 2010, “Blocking Property of Certain Persons Contributing to the Conflict in Somalia.”

DATES: The designation by the Director of OFAC of the individual identified in this notice was announced on July 29, 2011.

FOR FURTHER INFORMATION CONTACT: Assistant Director, Sanctions Compliance and Evaluation, Office of Foreign Assets Control, Department of the Treasury, 1500 Pennsylvania Avenue NW. (Treasury Annex), Washington, DC 20220, Tel.: 202/622-2490.

SUPPLEMENTARY INFORMATION:

Electronic and Facsimile Availability

The List of Specially Designated Nationals and Blocked Persons (“SDN List”) and additional information concerning OFAC are available from OFAC's Web site (http://www.treas.gov/ofac). Certain general information pertaining to OFAC's sanctions programs also is available via facsimile through a 24-hour fax-on-demand service, Tel.: 202/622-0077.

Background

On April 12, 2010, the President issued Executive Order 13536, “Blocking Property of Certain Persons Contributing to the Conflict in Somalia” (the “Order”), pursuant to, inter alia, the International Emergency Economic Powers Act (50 U.S.C. 1701-06). In the Order, the President declared a national emergency to address the deterioration of the security situation and the persistence of violence in Somalia and acts of piracy and armed robbery at sea off the coast of Somalia.

Section 1 of the Order blocks, with certain exceptions, all property and interests in property that are in the United States, that come within the United States, or that are or come within the possession or control of any United States person, of persons listed in the Annex to the Order and of persons determined by the Secretary of the Treasury, in consultation with the Secretary of State, to satisfy certain criteria set forth in the Order. The Annex to the Order lists eleven individuals and one entity whose property and interests in property are blocked pursuant to the Order.

On July 29, 2011, the Director of OFAC, in consultation with the Secretary of State, designated, pursuant to one or more of the criteria set forth in subparagraphs (a)(ii)(A) through (a)(ii)(E) of Section 1 of the Order, one individual as a person whose property and interests in property are blocked pursuant to the Order. The listing of the blocked individual is as follows:

1. OMAR, Hassan Mahat (a.k.a. ADAM, Sheikh Hassaan Hussein; a.k.a. HUSSEIN, Sheikh Hassaan; a.k.a. OMAR, Hassan Mahad), DOB 10 Apr 1979; POB Garissa, Kenya; nationality Kenya; Kenyan ID No. 23446085 (Kenya); Passport A1180173 (Kenya) expires 20 Aug 2017; (INDIVIDUAL) [SOMALIA]

Dated: July 29, 2011.
Barbara C. Hammerle,
Acting Director, Office of Foreign Assets Control.

[FR Doc. 2011-19841 Filed 8-4-11; 8:45 am]

BILLING CODE 4810-AL-P